ENVIRONMENTAL PROTECTION AGENCY

[EPA-HQ-OAR-2010-1016; FRL-9918-64-OEI]

Information Collection Request Submitted to OMB for Review and Approval; Comment Request; The National Refrigerant Recycling and Emissions Reduction Program (Renewal)

AGENCY: Environmental Protection Agency (EPA).

ACTION: Notice.

SUMMARY: The Environmental Protection Agency has submitted an information collection request (ICR), “The National Refrigerant Recycling and Emissions Reduction Program” (EPA ICR No. 1626.12, OMB Control No. 2060-0256) to the Office of Management and Budget (OMB) for review and approval in accordance with the Paperwork Reduction Act (44 U.S.C. 3501 et seq.). This is a proposed extension of the ICR, which is currently approved through November 30, 2014. Public comments were previously requested via the Federal Register 79 FR 40753 on July 14, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 1, 2014.

ADDRESSES: Submit your comments, referencing Docket ID Number EPA-HQ-OAR-2010-1016 to (1) EPA online using www.regulations.gov (our preferred method), by email to: a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Robert Burchard, Stratospheric Program Division, Environmental Protection Agency, 1200 Pennsylvania Ave. NW., Washington, DC 20460; telephone number (202) 343-9126; fax number: (202) 343-2338; email address: burchard.robert@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA developed regulations under the Clean Air Act Amendments of 1990 (CAA) regarding the use and disposal of class I and class II ozone-depleting substances used as refrigerants during the service, maintenance, repair, or disposal of refrigeration and air-conditioning equipment. Section 608(c) of the CAA states that it is unlawful for any person in the course of maintaining, servicing, repairing, or disposing of refrigeration or air-conditioning equipment to knowingly vent or otherwise knowingly release or dispose of a class I or class II substance used as a refrigerant in the equipment in a manner which permits the substance to enter the environment.

In 1993, EPA promulgated regulations under section 608 of the CAA for the recycling of ozone-depleting refrigerants recovered during servicing and disposal of air-conditioning and refrigeration equipment (40 CFR part 82). The regulations require persons servicing refrigeration and air-conditioning equipment to observe service practices that reduce emissions of ozone depleting refrigerants. The regulations also establish certification programs for technicians, recycling and recovery equipment, and off-site refrigerant reclaimers. In addition, EPA requires that ozone depleting refrigerants contained “in bulk” in appliances be removed prior to disposal of the appliances, and that all refrigeration and air-conditioning equipment (except for small appliances and room air conditioners) be provided with a servicing aperture that facilitates recovery of the refrigerant. Moreover, the Agency requires that substantial refrigerant leaks in equipment be repaired when discovered. These regulations significantly reduce emissions of ozone depleting refrigerants and therefore aid efforts to minimize damage to the ozone layer.

To facilitate compliance with section 608, EPA requires reporting and record keeping for technicians; technician certification programs; equipment testing organizations; refrigerant wholesalers and purchasers; refrigerant reclaimers; refrigeration and air-conditioning equipment owners; and other establishments that perform refrigerant removal, service, or disposal. These reporting and recordkeeping requirements help EPA evaluate the effectiveness of refrigerant regulations and reduce emissions of ozone-depleting substances.

Form Numbers: None.

Respondents/affected entities: Entities that recover, recycle, reclaim, sell or distribute in interstate commerce ozone-depleting refrigerants that contain chlorofluorocarbons (CFCs) or hydrochlorofluorocarbons (HCFCs); those that service, maintain, repair, or dispose of appliances containing CFC or HCFC refrigerants; and those that own or operate appliances containing more than 50 pounds of CFC or HCFC refrigerants.

Respondent's obligation to respond: Mandatory.

Estimated number of respondents: 883,680.

Frequency of response: Primarily annually, with the exception of technician testing organizations that are required to report biannually.

Total estimated burden: 320,537 hours (per year). Burden is defined at 5 CFR 1320.03(b).

Total estimated cost: $14,202,991, which includes no capital or O&M costs.

Changes in the Estimates: There is a slight increase in the average annual burden hours currently identified in the current OMB Inventory of Approved ICR Burdens due to a change in the estimates.

Courtney Kerwin,
Acting Director, Collection Strategies Division.

[FR Doc. 2014-25753 Filed 10-29-14; 8:45 am]

BILLING CODE 6560-50-P